DEPARTMENT OF HOUSING AND URBAN DEVELOPMENT

[Docket No. FR-4601-N-02]

Notice of Extension of Application Period for the Opportunity to Serve on the U.S.-Israel Bi-National Commission on Housing and Community Development

AGENCY: Office of International Affairs under the Office of the Assistant Secretary for Policy Development and Research, HUD.

ACTION: Notice.

SUMMARY: On June 26, 2000, HUD published a notice that announced the opportunity for individuals to apply to serve on the U.S.-Israel Bi-National Commission on Housing and Community Development. The application period was scheduled to end on July 26, 2000. This notice extends the deadline to apply for this U.S.-Israel Bi-National Commission until August 28, 2000. The June 26, 2000 notice provides the selection and eligibility requirements for serving on the commission.

DATES: August 28, 2000. In order to receive full consideration, requests must be received by HUD no later than August 28, 2000.

ADDRESSES: Please send your requests for consideration to U.S.-Israel Bi-National Commission, U.S. Department of Housing and Urban Development, Office of International Affairs, Room 8118, 451 Seventh Street, SW, Washington, DC 20410. You may fax your request to (202) 708-5536 (this is not a toll-free number).

FOR FURTHER INFORMATION CONTACT: John Geraghty, U.S. Department of Housing and Urban Development, Office of International Affairs, Room 8118, 451 Seventh Street, SW, Washington, DC 20410, (202) 708-0770 (telephone), (202) 708-5536 (fax) (these are not toll-free numbers). Persons with hearing or speech impairments may access that number via TTY by calling the Federal Information Relay Service at (800) 877-8339.

SUPPLEMENTARY INFORMATION: On June 26, 2000 (65 FR 39419), HUD published a notice that provided the opportunity for individuals to apply to serve on the U.S.-Israel Bi-National Commission on Housing and Community Development and announced the selection and eligibility requirements. The Commission will consist of U.S. and Israeli representatives from the housing, real estate, community development, finance, and construction sectors.

The application period for this U.S.-Israel Bi-National Commission was scheduled to end on July 26, 2000. In order to give more people the opportunity to apply, the Department has decided to extend the deadline of the application period to August 28, 2000.

Dated: July 19, 2000.
Susan Wachter,
Assistant Secretary for Policy, Development and Research.

[FR Doc. 00-18727 Filed 7-20-00; 11:48 am]

BILLING CODE 4210-62-P